DEPARTMENT OF JUSTICE

Antitrust Division

Notice Pursuant to the National Cooperative Research and Production Act of 1993—TM Forum

Notice is hereby given that, on October 16, 2024, pursuant to section 6(a) of the National Cooperative Research and Production Act of 1993, 15 U.S.C. 4301 et seq. (“the Act”), TM Forum, a New Jersey Non-Profit Corporation (“the Forum”), filed written notifications simultaneously with the Attorney General and the Federal Trade Commission disclosing changes in its membership. The notifications were filed for the purpose of extending the Act's provisions limiting the recovery of antitrust plaintiffs to actual damages under specified circumstances.

Specifically, BCE Global Tech, Karnataka, INDIA; PT Telekomunikasi Indonesia International, Jakarta Selatan, INDONESIA; Private Tech, Inc., DBA Cape, Columbia, WA; Core9 Ventures Pvt., Ltd., Lahore, PAKISTAN; Nodir Nazarov, Nesconset, NY; Byanat, Muscat Hills, OMAN; Net2Chain Systems, Inc., Dover, DE; AvanteBSS, Paralimni, CYRPUS; TeleYemen, Sana'a, YEMEN; Scope, London, UNITED KINGDOM; Biz Arch Model LLC, Montrose, CO; Sapir Academic College, Mobile Post Hof Ashkelon, ISRAEL; AARNet Pty, Ltd., Chatswood, AUSTRALIA; Jonathan Goldberg, Raanana, ISRAEL; SelfX Now Technologies LLC, San Jose, CA; Being Innovation, S.L, Barcelona, SPAIN; InfoVision, Inc., Richardson, TX; Cisco Systems, San Jose, CA; OPT/NET B.V., Bergen, NETHERLANDS; Tupl, Bellevue, WA; DIGITAL GLOBAL SYSTEMS, Tysons Corner, VA; Mauritius Telecom, Ltd., Port Louis, MAURITIUS; Hatif Libya Company, Abunowass, LIBYA; and Axian Telecom Middle East Technical and Management Services Limited, Dubai, UNITED ARAB EMIRATES, have been added as parties to this venture.

Also, Acceldata, Palo Alto, CA; Agnity Communications, Inc., Fremont, CA; AriaNetworks, Bath, UNITED KINGDOM; BAINZ Consulting Limited, Wellington, NEW ZEALAND; China Information Technology Designing Consulting Institute Co., Ltd., Beijing, PEOPLE'S REPUBLIC OF CHINA; Echo5G, Cumming, GA; EXFO, Inc., Quebec, CANADA; Hoonar Tekwurks Consulting LLP., Union, NJ; Infraon Corp, Lewes, DE; Intersec, Paris La Défense, FRANCE; INVITE Communications Co., Ltd, Tokyo, JAPAN; IP TOTAL SOFTWARE S.A, Cali, COLOMBIA; Millicom Cable Costa Rica, S.A., San Jose, COSTA RICA; Millicom International Cellular S.A., Luxembourg, LUXEMBOURG; Millicom Tigo Bolivia, Santa Cruz, BOLIVIA; Millicom Tigo Guatemala, Santa Catarina Pinula, GUATEMALA; Quantexa, London, UNITED KINGDOM; Russell Reynolds Associates, Inc., New York, NY; Summit Tech, Quebec, CANADA; SUP'COM, Ariana, TUNISIA; Telefonía Celular de Nicaragua, S.A., Managua, NICARAGUA; Telefónica Celular del Paraguay SAE, Asuncion, PARAGUAY; Telemovil El Salvador, S.A de C.V., Tuscania, EL SALVADOR; Tigo Colombia, Medellin, COLOMBIA; Tigo Honduras, Tegucigalpa, HONDURAS; Tigo Panama, Ciudad de Panama, PANAMA; VANTIQ, Walnut Creek, CA; and Vector Communications, Ltd., Auckland, NEW ZEALAND, have withdrawn as parties to this venture.

In addition, the following members have changed their names: Ni2 to Ni2, Inc., Montreal, CANADA; Inceptum d.o.o. za usluge to UMBOSS d.o.o., Zagreb, CROATIA; Global Wavenet Pte, Ltd., to Wavenet Pte Ltd, Singapore, SINGAPORE; BMC Software, Inc. to BMC Software Distribution B.V, Houston, TX; Libyana for Mobile Phones to Libyana Mobile Phone, Tripoli, LIBYA; PiA Bilisim Hizmetleri A.S. to PiA (People In Action), Pendik, TURKEY; EverestIMS Technologies to EverestIMS Technologies Pv,t Ltd., Bengaluru, INDIA; Optare Solutions to OPTARE SOLUTIONS, S.A., Vigo, SPAIN; and Oneweb to Eutelsat Group, Issy-les-Moulineaux, FRANCE.

No other changes have been made to either the membership or planned activity of the group research project. Membership in this group research project remains open, and the Forum intends to file additional written notifications disclosing all changes in membership.

On October 21, 1988, the Forum filed its original notification pursuant to section 6(a) of the Act. The Department of Justice published a notice in the Federal Register pursuant to section 6(b) of the Act on December 8, 1988 (53 FR 49615).

The last notification was filed with the Department on July 23, 2024. A notice was published in the Federal Register pursuant to section 6(b) of the Act on October 11, 2024 (89 FR 82631).

Suzanne Morris,
Deputy Director Civil Enforcement Operations, Antitrust Division.

[FR Doc. 2025-01698 Filed 1-23-25; 8:45 am]

BILLING CODE 4410-11-P